DEPARTMENT OF HEALTH AND HUMAN SERVICES

Office of the Secretary

Findings of Scientific Misconduct

AGENCY: Office of the Secretary, HHS.

ACTION: Notice.

SUMMARY: Notice is hereby given that the Office of Research Integrity (ORI) and the Assistant Secretary for Health have taken final action in the following case:

Thonthi Karunakaran, Boston Medical Center: Based on the report of an investigation conducted by Boston Medical Center (BMC Report) and additional analysis performed by ORI in its oversight review, the U.S. Public Health Service (PHS) found that Thonthi Karunakaran, Ph.D., former Research Scientist at BMC, engaged in scientific misconduct by plagiarizing, falsifying, and fabricating research that he reported to his supervisor for the project “Hemin Utilization by Porphyromonas gingivalis,” funded by National Institute of Dental and Craniofacial Research, (NIDCR), National Institutes of Health (NIH), grant R01 DE09161-11.

Specifically, PHS found that Dr. Karunakaran engaged in scientific misconduct by:

(1) Plagiarizing a P. gingivalis strain W83 DNA sequence from an Internet database and misrepresenting to his supervisor that the Internet database printout represented his own cloning and sequencing of strain A7436 fur gene X;

(2) Fabricating the claim to have obtained sequence data for a strain A7436 cloned fur gene X from a sequencing facility at Massachusetts Institute of Technology (MIT); and

(3) Falsifying unrelated sequencing data from a graduate student's notebook in the laboratory by trimming off the identifying header and misrepresenting it to his supervisor as primary data from his sequencing of the A7436 fur gene X.

There were no published papers that required correction or retraction.

The following administrative actions have been implemented for a period of three (3) years, beginning on July 17, 2003:

(1) Dr. Karunakaran is debarred from eligibility for or involvement in Federal covered transactions (i.e., any Federal transaction other than a procurement transaction) and from contracting or subcontracting with any Federal government agency; this action is being taken pursuant to the debarment regulation pertaining to grants and other forms of assistance (45 CFR part 76); and

(2) Dr. Karunakaran is prohibited from serving in any advisory capacity to PHS including, but not limited to, service on any PHS advisory committee, board, and/or peer review committee, or as a consultant.

FOR FURTHER INFORMATION CONTACT: Director, Division of Investigative Oversight, Office of Research Integrity, 1101 Wootton Parkway, Suite 750, Rockville, MD 20852, (301) 443-5330.

Lawrence J. Rhoades,
Acting Director, Office of Research Integrity.

[FR Doc. 03-19947 Filed 8-5-03; 8:45 am]

BILLING CODE 4150-31-P